ENVIRONMENTAL PROTECTION AGENCY

[ER-FRL-6672-9]

Environmental Impacts Statements; Notice of Availability

Responsible Agency: Office of Federal Activities, General Information (202) 564-7167 or http://www.epa.gov/compliance/nepa/.

Weekly Receipt of Environmental Impact Statements

Filed February 21, 2006 Through February 24, 2006 Pursuant to 40 CFR 1506.9.

EIS No. 20060060, Final EIS, HUD, NE, Ashburton Avenue Master Plan and Urban Renewal Plan/Mulford Hope VI Revitalization Plan, Development, Implementation, Yonkers City, Westchester County, NY, Wait Period Ends: April 3, 2006, Contact: Daisy Colon 914-377-6560.

EIS No. 20060061, Final EIS, HUD, CA, Stillwater Business Park, New and Revised Information, Development of Business Park, Annexation AN1-01, Shastec Redevelopment Project Area, Airport Land Use Plan Amendment, Pre-Zone, General Plan Amendment GPA-2-01, Rezone RZ-1-01, Funding and U.S. Army COE 404 Permit, City of Redding, Shasta County, CA, Wait Period Ends: April 3, 2006, Contact: Nathan Cherpeski, 530-225-4519.

This document is available on the Internet at http://ci.redding.ca.us/cm/major_pr/still_buspk.htm1.

EIS No. 20060062, Final EIS, AFS, CO, Copper Mountain Resort Trails and Facilities Improvements, Implementation, Special Use Permit, White River National Forest, Dillon Ranger District, Summit County, CO, Wait Period Ends: April 3, 2006, Contact: Joe Foreman, 970-468-5400.

EIS No. 20060063, Draft EIS, FHW, CA, Big Bear Lake Bridge Replacement Project, near Big Bear Lake on CA-18 from Kilopost 71.1/71.9, Realignment and Widening Roadways, U.S. COE Section 404 Permit, Funding, San Bernardino National Forest, San Bernardino County, CA, Comment Period Ends: April 17, 2006, Contact: Lisa Cathcart-Randall, 916-498-5048.

EIS No. 20060064, Draft EIS, FHW, PA, Williow Creek All-Terrain Vehicle Trail Expansion, Improvements, located in Marshburg/Stickney Intensive Use Area, Alleghany National Forest, McKean County, PA, Comment Period Ends: April 17, 2006, Contact: Mark Conn, 814-723-5150.

EIS No. 20060065, Draft EIS, FRC, WA, Priest Rapids Hydroelectric Project, FERC Project #2114 Relicensing Application for New License, Columbia River, Grant, Yakima, Kittitas, Douglas, Benton, and Chelan Counties, WA, Comment Period Ends: April 17, 2006, Contact: Todd Sedmak, 1-866-208-3372.

EIS No. 20060066, Draft EIS, CGD, 00, Beacon Port Deepwater Port License Application, Construction and Operation, Deepwater Port and Offshore Pipeline, U.S. COE Section 404 and 10 Permits, Gulf of Mexico, San Patricio County, TX, Comment Period Ends: April 17, 2006, Contact: Ray Martin, 202-267-1683.

Amended Notices

EIS No. 20050545, Draft EIS, FHW, CA, Doyle Drive Project, South Access to the Golden Gate Bridge, Propose to Improve Seismic, Structural, and Traffic Safety, Presido of San Francisco, San Francisco County Transportation Authority, Marin and San Francisco Counties, CA, Comment Period Ends: March 31, 2006, Contact: Leland W. Dong 916-498-5860. Revision to FR Notice Published December 30, 2005. Reopening and Extending Comment Period from March 1, 2006 to March 31, 2006.

EIS No. 20050554, Draft EIS, IBR, ND, Red River Valley Water Supply Project, Development and Delivery of a Bulk Water Supply to meet Long-Term Water Needs of the Red River Valley, Implementation, ND, Comment Period Ends: March 30, 2006, Contact: Signe Snortland 701-250-4242, ext. 3619 Revision of FR Notice Published on January 6, 2006: Correction to Comment Period from February 28, 2006 to March 30, 2006.

EIS No. 20060004, Final EIS, FHW, MD, Intercounty Connector (ICC) from I-270 to US-1, Funding and U.S. Army COE Section 404 Permit, Montgomery and Prince George's Counties, MD, Wait Period Ends: March 23, 2006, Contact: Dan Johnson 410-779-7154. Revision of FR Notice Published January 13, 2006: Extending Wait Period from February 27, 2006 to March 23, 2006.

EIS No. 20060046, Draft EIS, BIA, CA, Scotts Valley Band of Pomo Indians, Proposed 29.87 Acre Fee-to-Trust Transfer and Casino Project, Contra Costa County, CA, Comment Period Ends: April 28, 2006, Contact: John Rydzik 916-978-6042.

Revision to FR Notice Published January 6, 2006. Correction to Comment Period from April 3, 2006 to April 28, 2006.

Dated: February 28, 2006.
Robert W. Hargrove,
Director, NEPA Compliance Division, Office of Federal Activities.

[FR Doc. E6-3077 Filed 3-2-06; 8:45 am]

BILLING CODE 6560-50-P